DEPARTMENT OF DEFENSE

Department of the Navy

Notice of Proposed Information Collection; Headquarters, U.S. Marine Corps

AGENCY: Department of the Navy, DOD.

ACTION: Notice.

SUMMARY: The Headquarters, U.S. Marine Corps, announces a proposed extension of an approved public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by December 13, 2004.

ADDRESSES: Send written comments and recommendations on the proposed information collection to Commandant of the Marine Corps, (Code OR), Headquarters, U.S. Marine Corps, 2 Navy Annex, Washington, DC 20380-1775.

FOR FURTHER INFORMATION CONTACT: To request additional information or to obtain a copy of the proposal and associated collection instruments, contact Ms. Carla Offer at (703) 784-9449.

SUPPLEMENTARY INFORMATION: Form Title and OMB Number: Academic Certification for Marine Corps Officer Candidate Program; OMB Control Number 0703-0011.

Needs and Uses: Used by Marine Corps officer procurement personnel, this form provides a standardized method for determining the academic eligibility of applicants for all reserve officer candidate programs. Use of this form is the only accurate and specific method to determine a reserve officer applicant's academic qualifications. Each applicant interested in enrolling in an undergraduate or graduate reserve officer commission program completes and returns the form.

Affected Public: Individuals or households.

Annual Burden Hours: 875.

Number of Respondents: 3,500.

Responses per Respondent: 1.

Average Burden per Response: 15 minutes.

Frequency: On occasion.

(Authority: 44 U.S.C. Sec. 3506(c)(2)(A))

Dated: September 30, 2004.
S.K. Melancon,
Paralegal Specialist, Office of the Judge Advocate General, Alternate Federal Register Liaison Officer.

[FR Doc. 04-22775 Filed 10-8-04; 8:45 am]

BILLING CODE 3810-FF-P